DEPARTMENT OF THE INTERIOR

U.S. Geological Survey

[GC22LK000036U00; OMB Control Number 1028-NEW]

Agency Information Collection Activities; Surveys for Ambient Groundwater Quality Monitoring

AGENCY: U.S. Geological Survey, Interior.

ACTION: Notice of information collection; request for comment.

SUMMARY: In accordance with the Paperwork Reduction Act of 1995, the U.S. Geological Survey (USGS) is proposing a new information collection.

DATES: Interested persons are invited to submit comments on or before July 18, 2022.

ADDRESSES: Send your comments on this information collection request (ICR) by mail to U.S. Geological Survey, Information Collections Officer, 12201 Sunrise Valley Drive, MS 159, Reston, VA 20192; or by email to gs-info_collections@usgs.gov. Please reference OMB Control Number 1028-NEW in the subject line of your comments.

FOR FURTHER INFORMATION CONTACT: To request additional information about this ICR, contact Devin Gaige by email at dgaige@usgs.gov, or by telephone at 518-285-5668.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: As part of a long-term effort to quantify and report on the ambient groundwater quality in upstate New York, the USGS New York Water Science Center will sample pre-existing wells drilled in bedrock and glacial-drift aquifers. The well selection process will include mailing an informational postcard, with a QR code linked to a survey, to well owners within the study region. For respondents who allow their well to be sampled, construction logs and information about the well set-up, treatment, and usage will be used to determine if the well meets the project requirements for sampling. Samples will be analyzed for a broad suite of properties and constituents, including physicochemical properties and concentrations of dissolved gases, major ions, nutrients, trace elements, pesticides, volatile organic compounds, radionuclides, and indicator bacteria. The resulting dataset will contribute to characterizing the ambient groundwater-quality conditions in New York State and can be used to identify long-term trends. The results will be provided to the well owners and will be available to the public through the USGS National Water Information System database (https://nwis.waterdata.usgs.gov/ny/nwis/qw), published reports, and published data releases.

Title of Collection: Surveys for Ambient Groundwater-Quality Monitoring.

OMB Control Number: 1028-NEW.

Form Number: None.

Type of Review: New.

Respondents/Affected Public: Individuals/households.

Total Estimated Number of Annual Respondents: 150 individuals, 30 local governments.

Total Estimated Number of Annual Responses: 180.

Estimated Completion Time per Response: 15 minutes.

Total Estimated Number of Annual Burden Hours: 45 hours.

Respondent's Obligation: Voluntary.

Frequency of Collection: Once.

Total Estimated Annual Nonhour Burden Cost: None.

An agency may not conduct or sponsor, nor is a person required to respond to, a collection of information unless it displays a currently valid OMB control number.

The authority for this action is the Paperwork Reduction Act of 1995 (44 U.S.C. 3501 et seq.).

Jennifer Graham,
Center Director, NYWSC.

[FR Doc. 2022-10578 Filed 5-16-22; 8:45 am]

BILLING CODE 4338-11-P